DEPARTMENT OF HEALTH AND HUMAN SERVICES

Administration for Children and Families

[Office of Management and Budget #: 0970-0545]

Proposed Information Collection Activity; Next Generation of Enhanced Employment Strategies Project

AGENCY: Office of Planning, Research, and Evaluation, Administration for Children and Families, U.S. Department of Health and Human Services.

ACTION: Request for public comments.

SUMMARY: The Administration for Children and Families (ACF) Office of Planning, Research, and Evaluation (OPRE) is requesting a one-year extension to one of the data collection activities conducted for the Next Generation of Enhanced Employment Strategies (NextGen) Project, the second follow-up survey (OMB #: 0970-0545, expiration April 30, 2026).

DATES: Comments due April 27, 2026.

ADDRESSES: In compliance with the requirements of the Paperwork Reduction Act of 1995, ACF is soliciting public comment on the specific aspects of the information collection described above. You can obtain copies of the proposed collection of information and submit comments by emailing opreinfocollection@acf.hhs.gov. Identify all requests by the title of the information collection.

SUPPLEMENTARY INFORMATION: Description: OPRE is conducting the NextGen Project to test innovative employment programs designed to help people facing complex challenges (such as physical and mental health conditions, criminal justice system involvement, or limited formal work skills and experience) secure economic independence. The project is partnering with the Social Security Administration to incorporate a focus on employment-related early interventions for people with current or foreseeable disabilities who have limited work history and are potential applicants for Supplemental Security Income.

The project includes an impact study, descriptive study, and cost study. The descriptive and cost studies are now complete. The impact study has concluded enrolling participants and fielding the first follow-up survey. OPRE seeks approval for an extension, without change, to one of the currently approved data collection activities for the impact study, the second follow-up survey. This survey collects data on key outcomes of interest, including service receipt, employment, earnings, economic independence, well-being, health status, substance use, and involvement in the criminal justice system. The second follow-up survey allows the study to assess NextGen programs' impact on these participant outcomes 18 or 21 months after study enrollment, depending on the program. Reporting on the intermediate-term impacts of the programs is critical for fully understanding the programs' effectiveness given that some outcomes are not likely to emerge until 18 to 21 months after program entry. OPRE seeks a one-year extension to capture additional responses to the second follow-up survey and ensure low differential attrition between the treatment and control groups at each NextGen program. Without this extension, participants who enrolled in NextGen most recently would be less likely to have their data captured, which could compromise data quality. The extension is requested to allow all participants to have follow-up periods of similar length (up to six months), which is likely to reduce nonresponse bias in impact estimates of the effectiveness of each NextGen program.

Respondents: Individuals enrolled in the NextGen Project.

Annual Burden Estimates

This extension request does not change the average burden per response for the remaining data collection. The total/annual burden estimates under this request are for an additional one year of data collection through April 2027. All other previously approved data collection activities under this OMB number have been completed.

Instrument | Total number of respondents | Total number of responses per respondent | Average burden hours per response | Total/annual burden (in hours)
Second follow-up survey—participants | 200 | 1 | 0.83 | 166

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 413 of the Social Security Act, as amended by the Fiscal Year 2017 Consolidated Appropriations Act, 2017 (Public Law 115-31).

Mary C. Jones,
ACF/OPRE Certifying Officer.

[FR Doc. 2026-03722 Filed 2-24-26; 8:45 am]

BILLING CODE 4184-09-P